DEPARTMENT OF THE INTERIOR

Fish and Wildlife Service

Draft Environmental Assessment/Habitat Conservation Plan and Receipt of an Application for an Incidental Take Permit for the Pinery West Subdivision, City of Parker, Douglas County, CO

AGENCY: Fish and Wildlife Service, Interior.

ACTION: Notice of availability and receipt of application

SUMMARY: This notice advises the public that U.S. Homes (Applicant) has applied to the U.S. Fish and Wildlife Service (Service) for an incidental take permit pursuant to section 10(a)(1)(B) of the Endangered Species Act (ESA) of 1973, as amended. The proposed permit would authorize the incidental take of the Preble's meadow jumping mouse, Zapus hudsonius preblei (Preble's), federally-listed as threatened, through loss and modification of its habitat associated with the Pinery West Subdivision, City of Parker, Douglas County, Colorado. The duration of the permit would be 30 years from the date of issuance.

We announce the receipt of the Applicant's incidental take permit application, which includes a combined Environmental Assessment/Habitat Conservation Plan (EA/HCP) for Preble's for the Pinery West Subdivision. The proposed EA/HCP is available for public review and comment. It fully describes the proposed project and the measures the Applicant would undertake to minimize and mitigate project impacts to the Preble's.

The Service requests comments on the EA/HCP and associated documents for the proposed issuance of the incidental take permit. All comments on the EA and permit application will become part of the administrative record and will be available to the public. We provide this notice pursuant to section 10(a) of the ESA and National Environmental Policy Act regulations (40 CFR 1506.6).

DATES: Written comments on the permit application and EA/HCP should be received on or before November 22, 2004.

ADDRESSES: Comments regarding the permit application and EA/HCP should be addressed to Susan Linner, Field Supervisor, U.S. Fish and Wildlife Service, Colorado Field Office, 755 Parfet Street, Suite 361, Lakewood, Colorado 80215. Comments also may be submitted by facsimile to (303) 275-2371.

FOR FURTHER INFORMATION CONTACT: Ms. Barbara Spagnuolo, Fish and Wildlife Biologist, Colorado Field Office, telephone (303) 275-2370.

SUPPLEMENTARY INFORMATION:

Document Availability

Individuals wishing copies of the EA/HCP and associated documents for review should immediately contact the above office. Documents also will be available for public inspection, by appointment, during normal business hours at the above address.

Background

Section 9 of the ESA and Federal regulations prohibit the “take” of a species listed as endangered or threatened. Take is defined under the ESA, in part, as to kill, harm, or harass a federally listed species. However, the Service may issue permits to authorize “incidental take” of listed species under limited circumstances. Incidental take is defined under the ESA as take of a listed species that is incidental to, and not the purpose of, the carrying out of an otherwise lawful activity under limited circumstances. Regulations governing permits for threatened species are promulgated in 50 CFR 17.32.

The Pinery West Subdivision Property is located approximately seven miles south of Parker on Route 83, along Cherry Creek, in the City of Parker, Douglas County, State of Colorado. The project site is 127.1 hectares (314.3 acres), but the proposed project will directly impact a maximum of 6.3 hectares (15.5 acres), according to the Service's definition of Preble's habitat, that may result in incidental take of the Preble's. An HCP has been developed as part of the preferred alternative to allow for the incidental take of the Preble's by permitting a commercial and industrial subdivision to be constructed in an area that may be periodically used as foraging, breeding, or hibernation habitat.

In addition to the Proposed Action, alternatives considered included: (a) waiting for the Douglas County Regional HCP to be approved; (b) construction of the subdivision at an alternative site; (c) an alternative site design that included a residential development; and (d) no action. The EA analyzes the onsite, offsite, and cumulative impacts of the proposed project and all associated development and construction activities and mitigation activities on the Preble's, and also on vegetation, wildlife, wetlands, geology/soils, land use, water resources, air and water quality, and cultural resources.

Only one federally-listed species, the threatened Preble's, occurs onsite and has the potential to be adversely affected by the project. To mitigate impacts that may result from incidental take, the HCP provides mitigation that will likely provide a net benefit to the Preble's mouse and other wildlife by enhancing the Cherry Creek corridor onsite and its associated riparian areas through revegetation efforts, including planting of native grasses and shrubs, and protecting existing habitat along Cherry Creek from any future development by placing land in open space. Following construction, 1.9 hectares (4.8 acres) of uplands and 16.9 hectares (39.7 acres) of floodplain will be reseeded. Willows also will be planted on 0.8 hectare (2.0 acres) of floodplain. In addition, grazing will be removed and noxious weeds will be controlled on 52.04 hectares (128.6 acres). The Applicant also proposes to dedicate 52.04 hectares (128.6 acres) of the project that is not developed to Douglas County as open space. Two large sediment control ponds will be constructed to collect storm water from the completed subdivision. The water will be discharged at a controlled rate, thus minimizing erosion and facilitating revegetation of upland areas with additional water. Measures will be taken during construction to minimize impact to the habitat, including the use of silt fencing to reduce the amount of sediment from construction activities that reaches the creek. All of the proposed mitigation area is within the boundaries of the Pinery West Subdivision property, all of which is included in the drainage basin of Cherry Creek.

This notice is provided pursuant to section 10(c) of the ESA. We will evaluate the permit application, the EA/HCP, and comments submitted therein to determine whether the application meets the requirements of section 10(a) of the ESA. If it is determined that those requirements are met, a permit will be issued for the incidental take of the Preble's in conjunction with the construction of Pinery West Subdivision. The final permit decision will be made no sooner than 60 days after the date of this notice.

Pursuant to the June 10, 2004, order in Spirit of the Sage Council v. Norton, Civil Action No. 98-1873 (D.D.C.), the Service is enjoined from approving new section 10(a)(1)(B) permits or related documents containing “No Surprises” assurances until such time as the Service adopts new permit revocation rules specifically applicable to section 10(a)(1)(B) permits in compliance with the public notice and comment requirements of the Administrative Procedure Act. This notice concerns a step in the review and processing of a section 10(a)(1)(B) permit and any subsequent permit issuance will be in accordance with the Court's order. Until such time as the Service's authority to issue permits with “No Surprises” assurances has been reinstated, the Service will not approve any incidental take permits or related documents that contain “No Surprises” assurances.

Sharon Rose,
Regional Director, Denver, Colorado.

[FR Doc. 04-21171 Filed 9-20-04; 8:45 am]

BILLING CODE 4310-55-P